DEPARTMENT OF THE INTERIOR

Bureau of Land Management

[MT-070-01-1020-PG]

Resource Advisory Council Meeting; Butte, Montana

AGENCY: Bureau of Land Management, Interior.

ACTION: Notice of meeting.

SUMMARY: The Western Montana Resource Advisory Council will convene on March 27, 2001, from 9:00 a.m. to 4:00 p.m., at the BLM Butte Field Office, 106 North Parkmont, Butte, Montana, 59701.

The topics for the meeting will be: Recommendation on Tailpipe Travel Management Plan by the Subcommittee, Summary of Range Standards and Guidelines by the Subcommittee, Field Manager Update, and a Sage Grouse Presentation at 2:00 p.m.

The meeting is open to the public and written comments can be given to the Council. Oral comments may be presented to the Council at 11:30 a.m. The time allotted for oral comment may be limited, depending on the number of persons wishing to be heard. Individuals who plan to attend and need further information about the meeting, or who need special assistance, such as sign language or other reasonable accommodations, should contact Jean Nelson-Dean, Resource Advisory Coordinator, at the Butte Field Office, 106 North Parkmont, P.O. Box 3388, Butte, Montana 59702-3388, telephone 406-533-7617.

FOR FURTHER INFORMATION CONTACT: Richard Hotaling, Field Manager, 406-533-7600 or Jean Nelson-Dean at the above address and telephone number.

Dated: February 27, 2001.
Steve Hartmann,
Acting Field Manager.

[FR Doc. 01-5703 Filed 3-7-01; 8:45 am]

BILLING CODE 4310-DN-M